DEPARTMENT OF AGRICULTURE

Forest Service

California Coast Provincial Advisory Committee (PAC)

AGENCY: Forest Service, USDA.

ACTION: Notice of meeting.

SUMMARY: The California Coast Provincial Advisory Committee (PAC) will meet on August 16 and 17, 2000, at the Mateel Community Center in Redway, California. The meeting will be held from 10 a.m. until 5 p.m. on Wednesday, August 16, and from 8 a.m. to 12:30 p.m. on Thursday, August 17. The Mateel Community Center is located at 59 Rusk Lane in Redway. Agenda items to be covered include: (1) Follow up and federal agencies' panel on the Watershed Analyses issue; (2) Status of the issue on residual fish stocks and their habitat; (3) Follow up and federal agencies' presentation on the PAC roads resolution; (4) Regional Ecosystem Office (REO) update to include the Aquatic/Riparian Effectiveness Monitoring program, Survey and Manage Draft Environmental Impact Statement status, and tribal effectiveness monitoring; (5) Update of information from the State representative; (6) Presentation on Northwest Forest Plan monitoring; (7) Field trip to the King Range; and (8) Open public comment. All California Coast Provincial Advisory Committee meetings are open to the public. Interested citizens are encouraged to attend.

FOR FURTHER INFORMATION CONTACT: Direct questions regarding this meeting to James Fenwood, Forest Supervisor, or Phebe Brown, Province Coordinator, USDA, Mendocino National Forest, 825 N. Humboldt Avenue, Willows, CA 95988, (530) 934-3316.

Dated: July 17, 2000.
James D. Fenwood,
Forest Supervisor.

[FR Doc. 00-18917 Filed 7-25-00; 8:45 am]

BILLING CODE 3410-11-M